NUCLEAR REGULATORY COMMISSION

Revised Analysis of Decommissioning Reference Non-Fuel-Cycle Facilities, Availability of NUREG

AGENCY: Nuclear Regulatory Commission.

ACTION: Notice of availability and request for public comment.

SUMMARY: The Nuclear Regulatory Commission's (NRC) is announcing the availability of NUREG/CR-6477, “Revised Analysis of Decommissioning Reference Non-Fuel-Cycle Facilities.” This report analyses changes in conceptual decommissioning costs for a number of different types of reference nuclear materials facilities.

DATES: Submit comments by March 3, 2003. Comments received after this date will be considered if it is practical to do so, but the Commission is able to ensure consideration only for comments received on or before this date.

ADDRESSES: Submit comments to: Clark Prichard, Division of Industrial and Medical Nuclear Safety, Office of Nuclear Material Safety and Safeguards, U.S. Nuclear Regulatory Commission, Washington, DC 20555-0001, cwp@nrc.gov.

Deliver comments to 11555 Rockville Pike, Rockville, MD, between 7:30 a.m. and 4:15 p.m. on Federal workdays.

The NRC maintains an Agencywide Document Access and Management System (ADAMS), which provides text and image files of NRC's public documents. These documents may be accessed through the NRC's Public Electronic Reading Room on the Internet at http://www.nrc.gov/reading-rm/adams.html. The ADAMS accession number for NUREG/CR-6477 is ML030160573. If you do not have access to ADAMS or if there are problems in accessing the documents located in ADAMS, contact the NRC Public Document Room (PDR) Reference staff at 1-800-397-4209, 301-415-4737, or by e-mail to pdr@nrc.gov.

Single hard copies are available from the contact listed below.

FOR FURTHER INFORMATION, CONTACT: Clark Prichard, Division of Industrial and Medical Nuclear Safety, Office of Nuclear Material Safety and Safeguards, U.S. Nuclear Regulatory Commission, Washington, DC 20555-0001 (301-415-6203), cwp@nrc.gov.

SUPPLEMENTARY INFORMATION: “Revised Analysis of Decommissioning Reference Non-Fuel-Cycle Facilities,” NUREG/CR-6477 provides estimates of the costs of decommissioning for a number of different types of non-fuel-cycle materials facilities, such as laboratories for the manufacture of sealed sources, laboratories for the manufacture of radionuclide-labeled compounds, and an institutional user laboratory. It is a re-evaluation of the original study of decommissioning costs for these types of facilities (NUREG/CR-1754 and NUREG/CR-1754, Addendum 1. It is part of a series of reports developed by Pacific Northwest National Laboratory providing decommissioning cost information.

Dated at Rockville, Maryland, this 22nd day of January, 2003.
For the Nuclear Regulatory Commission.
Patricia K. Holahan,
Chief, Regulation and Guidance Branch, Division of Industrial and Medical Nuclear Safety, Office of Nuclear Material Safety and Safeguards.

[FR Doc. 03-2180 Filed 1-29-03; 8:45 am]

BILLING CODE 7590-01-P